SURFACE TRANSPORTATION BOARD

[Docket No. FD 36381]

Toledo Industrial Railroad LLC—Operation Exemption—Line in Lucas County, Ohio

Toledo Industrial Railroad LLC (TIR), a noncarrier, has filed a verified notice of exemption under 49 CFR 1150.31 to operate approximately 5,500 feet of existing railroad trackage inside an existing transloading facility (the Line). The transloading facility is operated by TIR's affiliate, Midwest Terminals of Toledo, Inc. (Midwest Terminals). The Line is located in Toledo, Lucas County, Ohio. TIR states that there are no mileposts on the Line.

The verified notice states that currently the Line is operated by Midwest Terminals as private track. TIR states that it will enter into an operating license that will give TIR control of the Line and the other tracks within the transloading facility. Under the proposed transaction, TIR will operate as a terminal switching common carrier, operating the Line as common carrier line and the other tracks in the facility as excepted yard tracks and side tracks.

TIR certifies that, as a result of the proposed transaction, its projected revenues will not exceed $5 million annually and will not exceed those that would qualify it as a Class III carrier. TIR states that the proposed transaction would not impose any interchange commitment.

The proposed transaction may be consummated on or after March 5, 2020, the effective date of the exemption (30 days after the verified notice was filed) .¹

¹ TIR initially submitted the verified notice on January 22, 2020. On February 4, 2020, TIR filed a supplement to clarify the length of the Line. In light of that supplement, February 4, 2020 is deemed the filing date of the verified notice.

If the verified notice contains false or misleading information, the exemption is void ab initio. Petitions to revoke the exemption under 49 U.S.C. 10502(d) may be filed at any time. The filing of a petition to revoke will not automatically stay the effectiveness of the exemption. Petitions for stay must be filed no later than February 27, 2020 (at least seven days before the exemption becomes effective).

All pleadings, referring to Docket No. FD 36381, must be filed with the Surface Transportation Board either via e-filing or in writing addressed to 395 E Street SW, Washington, DC 20423-0001. In addition, a copy of each pleading must be served on TIR's representative, Eric M. Hocky, Esq., Clark Hill PLC, Two Commerce Square, 2001 Market St., Suite 2620, Philadelphia, PA 19103.

According to TIR, this action is categorically excluded from environmental review under 49 CFR 1105.6(c) and from historic reporting requirements under 49 CFR 1105.8(b).

Board decisions and notices are available at www.stb.gov.

Decided: February 13, 2020.
By the Board, Allison C. Davis, Director, Office of Proceedings.
Regena Smith-Bernard,
Clearance Clerk.

[FR Doc. 2020-03358 Filed 2-19-20; 8:45 am]

BILLING CODE 4915-01-P